DEPARTMENT OF COMMERCE

National Oceanic and Atmospheric Administration

Proposed Information Collection; Comment Request; Survey of Charter Boat and Headboat Angler Interactions With Sea Turtles

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 6, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Sara McNulty, (301) 427-8402 or sara.mcnulty@noaa.gov.

SUPPLEMENTARY INFORMATION:

I. Abstract

This request is for a new collection.

The collection of recreational fishing bycatch data is necessary to fulfill statutory requirements of Section 303 of the Magnuson-Stevens Fishery Conservation and Management Act (16 U.S.C. 1852 et. seq.), Section 401 of the Magnuson-Stevens Fishery Conservation and Management Reauthorization Act, and to comply with Executive Order 12962 on Recreational Fisheries. Additionally, the Endangered Species Act of 1973 (16 U.S.C. 1531 et seq.) imposed prohibitions against the taking of endangered species as the sea turtle. This collection will seek to better understand the nature and overall level of sea turtle interactions with recreational anglers on charter boat and headboats. The information collected will be used to develop more reliable bycatch estimates.

II. Method of Collection

Respondents will be asked to fill out a paper form and return via mail.

III. Data

OMB Control Number: None.

Form Number: None.

Type of Review: Regular submission (new collection).

Affected Public: Individuals or households.

Estimated Number of Respondents: 1,990.

Estimated Time per Response: 10 minutes.

Estimated Total Annual Burden Hours: 332.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 4, 2013.
Gwellnar Banks,
Management Analyst, Office of the Chief Information Officer.

[FR Doc. 2013-05332 Filed 3-6-13; 8:45 am]

BILLING CODE 3510-22-P